DEPARTMENT OF TRANSPORTATION

Federal Aviation Administration

Notice of Opportunity for Public Comment To Swap 1.12 Acres of Airport Land and Receive 14.55 Acres of Land From CTDOT for Airport Use at Bradley International Airport, Windsor Lock, CT

AGENCY: Federal Aviation Administration (FAA), DOT.

ACTION: Request for public comments.

SUMMARY: Notice is being given that the FAA is considering a request from the Connecticut Airport Authority (CAA) to swap 1.12 acres of airport land, which is part of the entrance road to the airport, and receive 14.55 acres of land from CTDOT. This project will realign the entrance roadway to allow CAA to move forward with the planned Ground Transportation Center. The entrance roadway will be owned and operated by the CTDOT.

DATES: Comments must be received on or before November 6, 2019.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts on September 27, 2019.
Gail B. Lattrell,
Director, ANE-600.

[FR Doc. 2019-21856 Filed 10-4-19; 8:45 am]

BILLING CODE P